DEPARTMENT OF ENERGY

Advanced Scientific Computing Advisory Committee

AGENCY: Office of Science, Department of Energy.

ACTION: Notice of open meeting.

SUMMARY: This notice announces a meeting of the Advanced Scientific Computing Advisory Committee (ASCAC). The Federal Advisory Committee Act (Pub. L. 92-463, 86 Stat. 770) requires that public notice of these meetings be announced in the Federal Register.

DATES:

Tuesday, September 20, 2016, 8:30 a.m.-5:30 p.m.

Wednesday, September 21, 2016, 8:30 a.m.-12:00 p.m.

ADDRESSES: Holiday Inn Capital, 550 C Street SW., Washington, DC 20024.

FOR FURTHER INFORMATION CONTACT: Christine Chalk, Office of Advanced Scientific Computing Research; SC-21/Germantown Building; U. S. Department of Energy; 1000 Independence Avenue SW., Washington, DC 20585-1290; Telephone (301) 903-7486.

SUPPLEMENTARY INFORMATION:

Purpose of the Committee: To provide advice and guidance on a continuing basis to the Office of Science and to the Department of Energy on scientific priorities within the field of advanced scientific computing research.

Purpose of the Meeting: This meeting is the semi-annual meeting of the Committee.

Tentative Agenda Topics

• View from Germantown

• New Charge—Laboratory Directed Research and Development

• Exascale update

• X-stack Principal Investigator Meeting

• Summary of workshop on Management, Analysis and Visualization of Experimental and Observational Data

• Technical presentations

• Public Comment (10-minute rule)

The meeting agenda includes a new charge for the committee to review the Laboratory Director Research and Development efforts at the National Labs; an update on the budget, accomplishments and planned activities of the Advanced Scientific Computing Research program; an update on exascale computing research activities; information on recent workshops exploring the management, analysis and visualization of experimental and observational data; a technical presentation from an exascale researcher; and an opportunity for comments from the public. The meeting will conclude at noon on September 21, 2015. Agenda updates and presentations will be posted on the ASCAC Web site prior to the meeting: http://science.energy.gov/ascr/ascac/.

Public Participation: The meeting is open to the public. Individuals and representatives of organizations who would like to offer comments and suggestions may do so during the meeting. Approximately 30 minutes will be reserved for public comments. Time allotted per speaker will depend on the number who wish to speak but will not exceed 10 minutes. The Designated Federal Officer is empowered to conduct the meeting in a fashion that will facilitate the orderly conduct of business.

Those wishing to speak should submit your request at least five days before the meeting. Those not able to attend the meeting or who have insufficient time to address the committee are invited to send a written statement to Christine Chalk, U.S. Department of Energy, 1000 Independence Avenue SW., Washington DC 20585, email to Christine.Chalk@science.doe.gov.

Minutes: The minutes of this meeting will be available within 90 days on the Advanced Scientific Computing Web site at http://science.energy.gov/ascr/ascac/.

Issued at Washington, DC, on August 9, 2016.
LaTanya R. Butler,
Deputy Committee Management Officer.

[FR Doc. 2016-19426 Filed 8-15-16; 8:45 am]

BILLING CODE 6450-01-P